DEPARTMENT OF THE INTERIOR

National Park Service

Notice of Intent To Prepare an Environmental Impact Statement on Proposed Brooks River Bridge and Boardwalk at Katmai National Park

AGENCY: National Park Service, Interior.

ACTION: Notice of intent to prepare an Environmental Impact Statement—Environmental Impact Statement on proposed Brooks River bridge and boardwalk at Katmai National Park.

SUMMARY: The National Park Service (NPS) is preparing an Environmental Impact Statement (EIS) on a proposed Brooks River bridge and boardwalk, and associated access changes, to the Brooks Camp Area within Katmai National Park and Preserve. The purpose of the EIS is to evaluate a reasonable range of alternatives for a bridge and boardwalk that would span the lower Brooks River. The existing floating bridge would be removed. A new bridge would provide for the existing floatplane access to the Brooks Camp Area to continue, with planes beaching on the shore of Naknek Lake on the north side of Brooks River. This proposal would tier off the 1996 Brooks River Area Development Concept Plan (DCP) and EIS. If the decision is to construct a new bridge, it would result in an amendment to the access decision, which called for construction of a new floatplane dock, breakwater, one-mile access road on the south side of Brooks River, and required a shuttle system.

In addition to the No Action alternative, the EIS will evaluate a reasonable range of alternatives to provide improved access to the Brooks Camp Area, to better protect natural and cultural resources, and to facilitate dependable travel between the north and south sides of Brooks River. Dependable access across Brooks River will advance the phased relocation of facilities and operations from the north side to the south side of the river, as set forth in the record of decision following the 1996 DCP/EIS. Public input is sought by the NPS regarding the range of alternatives. This EIS is being prepared in accordance with the requirements of the National Environmental Policy Act of 1969, as amended (42 U.S.C. 4331 et seq.), and its implementing regulations at 40 CFR part 1500.

Scoping: The NPS requests input from Federal and State agencies, local governments, private organizations, recreational users, and the public on the scope of issues to be addressed in this EIS. Scoping comments are being solicited. NPS representatives will be available to discuss issues, resource concerns, and the planning process at public scoping meetings. Scoping meetings will be held in Anchorage and King Salmon, Alaska in early 2009. When public meetings have been scheduled, their dates, times, and locations will be announced in local newspapers and posted on the NPS Planning, Environment, and Public Comment (PEPC) Web site at http://parkplanning.nps.gov/KATM.

Before including your address, phone number, e-mail address, or other personal identifying information in your comment, you should be aware that your entire comment—including your personal identifying information—may be made publicly available at any time. While you can ask us to withhold your personal identifying information from public review, we cannot guarantee that we will be able to do so. We will always make submissions from organizations or businesses, and from individuals identifying themselves as representatives of or officials of organizations or businesses, available for public inspection in their entirety.

DATES: Comments concerning the scope of this EIS should be received 60 days after the last scoping meeting referenced above. The draft EIS is projected to be available to the public in the spring of 2010. Electronic comments may be submitted to the NPS Planning, Environment, and Public Comment (PEPC) Web site at http://parkplanning.nps.gov/KATM. Written comments also may be mailed or faxed to the address and phone number provided below.

FOR FURTHER INFORMATION CONTACT: Ralph Moore, Superintendent, Katmai National Park and Preserve, P.O. Box 7, King Salmon, Alaska 99613. Telephone (907) 246-3305, Fax (907) 246-2116.

SUPPLEMENTARY INFORMATION: Katmai National Monument, originally designated in 1918 and subsequently expanded by four Presidential Proclamations, was enlarged and re-designated as a National Park and Preserve by the Alaska National Interest Lands Conservation Act (ANILCA) in 1980. Brooks Lodge was established in the 1950s on the north side of the lower Brooks River as a world-class recreational rainbow trout and salmon fishery and a premier recreational destination. In subsequent years, the Brooks Camp Area has become a high-quality bear viewing location due to the large population of brown bears that feed on the abundant salmon at Brooks River. The Brooks Camp Area currently receives up to 15,000 visitors annually. In addition to its abundant natural resources, the Brooks Camp Area also contains an internationally significant concentration of cultural resources, with cultural remains spanning a 4,500 year period and comprising some of the largest and most important prehistoric cultural sites in Alaska. It is a designated National Historic Landmark (NHL) and elements of the NHL have been nominated as a Cultural Landscape.

The record of decision following the 1996 DCP/EIS called for the relocation of facilities and infrastructure in the Brooks Camp Area to the south side of the Brooks River. The reasons for the proposed relocation were to protect natural and cultural resources, including prime brown bear habitat, and to improve visitor safety by reducing the potential for bear/human encounters. This proposal helps facilitate the phased relocation of NPS and concessionaire operations to the south side of the river, by providing a safe and dependable means of access across the river, and to the Brooks Camp Area via floatplane.

Currently, visitors to the Brooks Camp Area arrive by floatplane on the north side of Brooks River. The start of Valley of 10,000 Smokes bus tour is on the south side of the river, as are three heavily used bear viewing platforms that overlook the Brooks River, some NPS housing and maintenance facilities, and concessionaire maintenance operations.

Providing dependable access across the Brooks River will improve safety and facilitate traffic flow for access to current and future facilities.

The existing floating bridge is the only way the river can be crossed by visitors and employees. In 2007, the NPS devoted considerable time and personnel (2,690 hours) to visitor safety at the floating bridge to minimize bear-human encounters. Over the past five years, the total number of bears regularly using Brooks River has ranged from 43 to 70, which represents more than double the number of bears from 1988-1992. The Brooks Camp Area is visited by as many as 300 people per day at season peak. A new bridge and boardwalk would allow bears to move and use preferred feeding areas without encountering visitors and staff at ground level. In addition, the existing floating bridge is past its life expectancy and frequently requires repairs due to damage by bears, storms and high water events, and river current. Erosion control and annual rebuilding are necessary to keep the current access trail intact.

Dated: February 11, 2009.
Sue Masica,
Regional Director, Alaska Region.

[FR Doc. E9-7053 Filed 3-27-09; 8:45 am]

BILLING CODE 4312-HD-P